SMALL BUSINESS ADMINISTRATION

[Disaster Declaration # 10787]

Missouri Disaster # MO-00008

AGENCY: U.S. Small Business Administration

ACTION: Notice.

SUMMARY: This is a Notice of the Presidential declaration of a major disaster for Public Assistance Only for the State of Missouri (FEMA-1676-DR), dated 01/15/2007.

Incident: Severe Winter Storms and Flooding.

Incident Period: 01/12/2007 and continuing.

Effective Date: 01/15/2007.

Physical Loan Application Deadline Date: 03/16/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 01/15/2007, Private Non-Profit organizations that provide essential services of a governmental nature may file disaster loan applications at the address listed above or other locally announced locations.

The following areas have been determined to be adversely affected by the disaster:

Primary Counties:

Barry, Barton, Callaway, Camden, Christian, Cole, Crawford, Dade, Dallas, Dent, Franklin, Gasconade, Greene, Hickory, Jasper, Laclede, Lawrence, Lincoln, Maries, McDonald, Miller, Montgomery, Newton, Osage, Phelps, Polk, Pulaski, Saint Clair, St. Charles, St. Louis, St. Louis (City), Stone, Warren, Webster, Wright.

The Interest Rates are:

| Percent
Other (Including Non-Profit Organizations) with Credit Available Elsewhere | 5.250
Businesses and Non-Profit Organizations without Credit Available Elsewhere | 4.000

The number assigned to this disaster for physical damage is 10787.

(Catalog of Federal Domestic Assistance Number 59008)

Herbert L. Mitchell,
Associate Administrator for Disaster Assistance.

[FR Doc. E7-1098 Filed 1-24-07; 8:45 am]

BILLING CODE 8025-01-P